COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete a product and a service from the Procurement List that was previously furnished by nonprofit agencies employing persons who are blind or have other severe disabilities.

DATES: Comments must be received on or before: February 25, 2018.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletion

The following product and service are proposed for deletion from the Procurement List:

Product

NSN—Product Name: 8415-01-494-4605—Cover, Parachutists' and Ground Troops' Helmet, All Services, Snow Camouflage, ML

Mandatory Source of Supply: Mount Rogers Community Services Board, Wytheville, VA

Contracting Activity: Defense Logistics Agency Troop Support

Service

Service Type: Custodial Service

Mandatory for: GSA PBS Region 5, Federal Building and U.S. Courthouse, 201 N Vermilion Street, Danville, IL

Mandatory Source of Supply: Challenge Unlimited, Inc., Alton, IL

Contracting Activity: Public Buildings Service, Acquisition Management Division

Patricia Briscoe,
Deputy Director, Business Operations, (Pricing and Information Management).

[FR Doc. 2018-01444 Filed 1-25-18; 8:45 am]

BILLING CODE 6353-01-P